DEPARTMENT OF ENERGY

Proposed Agency Information Collection

AGENCY: U.S. Department of Energy.

ACTION: Notice and Request for OMB Review and Comment.

SUMMARY: The Department of Energy (DOE) has submitted to the Office of Management and Budget (OMB) for clearance, a proposal for collection of information under the provisions of the Paperwork Reduction Act of 1995. DOE, Office of Science (SC), has chosen to leverage the use of Government, Off-the-Shelf (GOTS) software capabilities to implement a new consolidated system called Portfolio Analysis and Management System (PAMS).

DATES: Comments regarding this collection must be received on or before February 23, 2015. If you anticipate that you will be submitting comments, but find it difficult to do so within the period of time allowed by this notice, please advise the DOE Desk Officer at OMB of your intention to make a submission as soon as possible. The Desk Officer may be telephoned at 202-395-4650.

ADDRESSES: Written comments should be sent to the DOE Desk Officer, Office of Information and Regulatory Affairs, Office of Management and Budget, New Executive Office Building, Room 10102, 735 17th Street NW., Washington, DC 20503.

And to Marina Amoroso, Program Management Specialist, Office of Information Technology and Services, Germantown Building; Room E-180, U.S. Department of Energy, 1000 Independence Ave. SW., Washington, DC 20585-1290, Email: marina.amoroso@science.doe.gov.

FOR FURTHER INFORMATION CONTACT: Requests for additional information or copies of the information collection instrument and instructions should be directed to Marina Amoroso by email at marina.amoroso@science.doe.gov.

SUPPLEMENTARY INFORMATION: This section contains the following information about the information collection submitted to OMB for review: (1) OMB No. New; (2) Information Collection Request Title: Portfolio Analysis and Management System (PAMS) Submissions for Letter of Intent (LOI), Pre-proposals, Interagency Proposals, and DOE National Laboratory Proposals; System Registration by External Users. (3) Type of Request: New collection; (4) Purpose: This new system is based on the Health Resources and Services Administration (HRSA) Electronic Handbooks software. Discretionary financial assistance proposals continue to be collected using Grants.gov but are imported into PAMS for use by the program offices. Under the proposed information collection, an external interface will be implemented in PAMS to allow two other types of proposal submission: DOE National Laboratories will be able to submit proposals for technical work authorizations directly into PAMS, while other Federal Agencies will be able to submit Proposals for interagency awards directly into PAMS. External users from all institution types will be able to submit Solicitation Letters of Intent and Pre-proposals directly into PAMS. All applicants, whether they submitted through Grants.gov or PAMS, will be able to register with PAMS to view the proposals that were submitted. They will also be able to maintain a minimal amount of information in their personal profile. The proposed collection will automate and streamline the submission, tracking, and correspondence portions of financial award pre-review processes. The information collected will be used by DOE to select applicants and projects for financial awards. (5) Annual Estimated Number of Respondents: The following numbers are calculated using the average of the number of financial assistance proposals received in fiscal year 2006 through fiscal year 2010. 9,920 PAMS registrants, who are to include 8,000 submitters of lab proposals, interagency proposals, pre-proposals, and Letters Of Intent (LOI) (assuming one person per estimated submission) and 1,920 reviewers of proposals submitted through Grants.gov. (6) Annual Estimated Number of Total Responses: The Office of Science receives about 1,000 DOE national laboratory and interagency proposals per year, based on a five-year average of estimated submission numbers (fiscal year 2006 through fiscal year 2010) and about 7,000 pre-proposals and letters of intent per year, based on an estimate of about 200 per solicitation and the number of solicitations per year (about 35, based on a five-year average between fiscal year 2006 and fiscal year 2010); (7) Annual Estimated Number of Burden Hours: The time it takes to complete a form depends upon the type of form being completed. External users will need to register with PAMS in order to access the system. It takes approximately 30 minutes for external users to complete the forms required to become a registered PAMS user. Both LOI and pre-proposal forms take 15 minutes each, whereas completing a lab/interagency proposal will take about 2 hours. The reviewers require about 1 hour of analysis, per submission. Based on the annual estimated number of responses, broken down by DOE national laboratory, letter of intent and pre-proposal, the annual estimated time required for reviewers to complete analysis or responses and the time required for external users to register with PAMS, the estimated annual number of burden hours is 10,630.

Total number of unduplicated respondents: 9,920.

Reports filed per person: 1.

Total annual responses: 9,920.

Total annual burden hours: 10,630.

(8) Annual Estimated Reporting and Recordkeeping Cost Burden: $0.

Statutory Authority

Section 641 of the Department of Energy Organization Act, codified at 42 U.S.C. 7251, authorizes the DOE to collect, use, and retain information that is mandatory for the financial awards process. All information comes from proposals, reviews, and reports that are submitted to the DOE by authorized external users (i.e., scientists and research administrators).

Issued in Washington, DC, on December 1, 2014.
Marina Amoroso,
Deputy Project Manager for Information Technology and Services, Office of Science.

[FR Doc. 2015-01163 Filed 1-22-15; 8:45 am]

BILLING CODE 6450-01-P